DEPARTMENT OF THE INTERIOR

Bureau of Ocean Energy Management

[Docket No. BOEM-2016-0069; MMAA104000]

Gulf of Mexico, Outer Continental Shelf, Central Planning Area Oil and Gas Lease Sale 247

AGENCY: Bureau of Ocean Energy Management (BOEM), Interior.

ACTION: Notice of Availability of a Record of Decision.

SUMMARY: BOEM is announcing the availability of a Record of Decision (ROD) for the proposed oil and gas Central Planning Area (CPA) Lease Sale 247. This ROD identifies the Bureau's selected alternative for proposed CPA Lease Sale 247, which is analyzed in the Gulf of Mexico OCS Oil and Gas Lease Sales: 2017; Central Planning Area Lease Sale 247; Final Supplemental Environmental Impact Statement (CPA 247 Supplemental EIS). The ROD and associated information are available on BOEM's Web site at http://www.boem.gov/nepaprocess/.

FOR FURTHER INFORMATION CONTACT: For more information on the ROD, you may contact Mr. Greg Kozlowski, Bureau of Ocean Energy Management, Gulf of Mexico Region, 1201 Elmwood Park Boulevard (GM 627A), New Orleans, Louisiana 70123-2394. You may also contact Mr. Kozlowski by telephone at 504-736-2512.

SUPPLEMENTARY INFORMATION: In the CPA 247 Supplemental EIS, BOEM evaluated three alternatives that are summarized below:

Alternative A—The Proposed Action: This alternative would offer for lease all available unleased blocks within the proposed CPA lease sale area for oil and gas operations with the following exceptions: whole and partial blocks deferred by the Gulf of Mexico Energy Security Act of 2006; and blocks that are adjacent or beyond the United States' Exclusive Economic Zone in the area known as the northern portion of the Eastern Gap. This is BOEM's preferred alternative.

All available unleased whole and partial blocks in the CPA that BOEM will offer for leasing in proposed CPA Lease Sale 247 are listed in the document “List of Blocks Available for Leasing,” which is included in the Final Notice of Sale for CPA Lease Sale 247. The proposed CPA lease sale area encompasses about 63 million acres of the total CPA area of 66.45 million acres. As of October 2016, approximately 47.72 million acres of the proposed CPA lease sale area were unleased. The estimated amount of resources projected to be developed as a result of the proposed CPA lease sale is 0.460-0.894 billion barrels of oil (BBO) and 1.939-3.903 trillion cubic feet (Tcf) of gas.

Alternative B—Exclude the Unleased Blocks Near the Biologically Sensitive Topographic Features: This alternative would offer for lease all available unleased blocks within the proposed CPA lease sale area, as described for the proposed action (Alternative A), but it would exclude from leasing any available unleased blocks subject to the Topographic Features Stipulation. The estimated amount of resources projected to be developed is 0.460-0.894 BBO and 1.939-3.903 Tcf of gas. The number of blocks that would not be offered under Alternative B represents only a small percentage of the total number of blocks to be offered under Alternative A; therefore, it is assumed that the levels of activity for Alternative B would be essentially the same as those projected for the CPA proposed action.

Alternative C—No Action: This alternative is the cancellation of proposed CPA Lease Sale 247 and is identified as the environmentally preferred alternative.

Lease Stipulations—The CPA 247 Supplemental EIS describes all lease stipulations, which are included in the Final Notice of Sale Package. The 10 lease stipulations for proposed CPA Lease Sale 247 are the Topographic Features Stipulation; the Live Bottom (Pinnacle Trend) Stipulation; the Military Areas Stipulation; the Evacuation Stipulation; the Coordination Stipulation; the Blocks South of Baldwin County, Alabama, Stipulation; the Protected Species Stipulation; the United Nations Convention on the Law of the Sea Royalty Payment Stipulation; the Below Seabed Operations Stipulation; and the Stipulation on the Agreement between the United States of America and the United Mexican States Concerning Transboundary Hydrocarbon Reservoirs in the Gulf of Mexico. The stipulations will be added as lease terms, where applicable, and will therefore be enforceable as part of the lease. Appendix A of the CPA 241/EPA 226 Supplemental EIS, from which the CPA 247 Supplemental EIS was tiered, provides a list and description of standard post-lease mitigating measures that may be required by BOEM or the Bureau of Safety and Environmental Enforcement as a result of plan and permit review processes for the Gulf of Mexico Region.

After careful consideration, BOEM has selected the preferred alternative (Alternative A) in the CPA 247 Supplemental EIS. BOEM's selection of the preferred alternative meets the purpose and need for the proposed action, as identified in the CPA 247 Supplemental EIS, and reflects an orderly resource development with protection of the human, marine, and coastal environments while also ensuring that the public receives an equitable return for these resources and that free-market competition is maintained.

Authority: This NOA of a ROD is published pursuant to the regulations (40 CFR 1506.6) implementing the provisions of the National Environmental Policy Act of 1969, as amended (42 U.S.C. 4321 et seq.).

Dated: December 20, 2016.
Abigail Ross Hopper,
Director, Bureau of Ocean Energy Management.

[FR Doc. 2016-31222 Filed 12-23-16; 8:45 am]

BILLING CODE 4310-MR-P